DEPARTMENT OF THE INTERIOR

Bureau of Land Management

[NM-030-5440-G504; NMNM104115]

Realty Action; Conveyance of Public Land; New Mexico

AGENCY: Bureau of Land Management (BLM), Interior.

ACTION: Notice of realty action; airport conveyance to the city of truth or consequences.

SUMMARY: The following public land in Sierra County, New Mexico has been found suitable for conveyance to the City of Truth or Consequences for airport purposes under the Act of May 24, 1928, as amended, and Section 516 of the Airport and Airway Improvement Act of September 3, 1982.

T. 12 S., R. 4 W., NMPM Section 33: W½ SE¼ NW¼ NW¼, N½ SW¼ NW¼, NE¼ SW¼ SW¼ NW¼, N½ SE¼ SW¼ NW¼, SW¼ SE¼ SW¼ NW¼, Containing approximately 35 acres.

DATES: Comments regarding the proposed conveyance must be submitted on or before January 23, 2003.

ADDRESSES: Comments should be sent to the BLM, Las Cruces Field Office, 1800 Marquess, Las Cruces, New Mexico 88005.

FOR FURTHER INFORMATION CONTACT: Gilda Fitzpatrick, Realty Specialist, at the address above or at (505) 524-4454.

SUPPLEMENTARY INFORMATION: Conveyance of the land is consistent with applicable Federal and county land use plans and will help meet the needs of Sierra County residents for air transportation.

The conveyance will contain reservations to the United States for ditches, canals and all minerals. Additionally the conveyance will be subject to rights of record including right-of-way NMNM44852, to Valor Telecommunications of New Mexico, LLC, for a telephone line.

Specific covenants required by the Federal Aviation Administration will also be included in the conveyance and are available by contacting the BLM Las Cruces Field Office.

The conveyance is consistent with the BLM White Sands Resource Area Management Plan. The land is not required for any other Federal purpose.

This notice segregates the above described public land from all forms of appropriation under the public land laws, including the general mining laws, except application for airport purposes and leasing under the mineral leasing laws.

On or before January 23, 2003, interested parties may submit comments to the BLM, Las Cruces Field Office, 1800 Marquess, Las Cruces, New Mexico 88005. In the absence of any objections, the decision to approve this realty action will become the final determination of the Department of the Interior.

Dated: October 30, 2002.
Amy L. Lueders,
Field Manager, Las Cruces.

[FR Doc. 02-30988 Filed 12-6-02; 8:45 am]

BILLING CODE 4310-VC-P